DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of May, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm of subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,070 & A; Eagle Knitting Mills, Shawano, WI & Kenosha, WI

TA-W-38,788; Cabinet Works LLC, Distinctive Woodworks LLC, Jefferson City, TN

TA-W-39,877; Standard Forged Products, Inc., Johnstown, PA

In the following cases, the investigation revealed that the criteria for eligibility have not been met for the reasons specified.

Increased imports did not contribute importantly to worker separations at the firm.

TA-W-38,921; Glenshaw Glass Co., Inc., Glenshaw, PA

TA-W-38,865 ; I and H Engineered Systems, Inc., Gaylord, MI

TA-W-39,151; Oxford Automotive, Inc., Alma, MI

The workers firm does not produce an article as required for certification under Section 222 of the Trade Act of 1974.

TA-W-39,080; Aur Resources (USA), Inc., Sparks, NV

TA-W-38,708; AAA Action Roofing, Torrance, CA

TA-W-38,853; Kasle Steel Dearborn Processing, Inc., Auto Press Product Div., Dearborn, MI

TA-W-38,878; Richard Leeds International, Scotland Neck, NC

The investigation revealed that criteria (2) has not been met. Sales or production did not decline during the relevant period as required for certification.

TA-W-39,148; Access Electronics, Inc., Gurnee, IL

Affirmative Determinations for Worker Adjustment Assistance

The following certifications have been issued; the date following the company name and location of each determination references the impact date for all workers of such determination.

TA-W-38,931; I.C. Isaacs & Co., Inc., Baltimore, MD: March 16, 2000.

TA-W-39,092; Fontaine International, Fontaine Fifth Wheel, Rocky Mount, NC: April 5, 2000.

TA-W-38,810; Truform Rubber Products, Hudson, OH: February 28, 2000.

TA-W-38,778; Capitol Manufacturing Co., Fayetteville, NC: February 19, 2000.

TA-W-38,847; Racewear Designs, Inc., El Cajon, CA: March 4, 2000.

TA-W-39,190 & A, B; Wright's LLC, Allentown, PA, Orwigsburg, PA and Auburn, PA: April 19, 2000.

TA-W-39,010; Intel Puerto Rico, LTD, Las Piedras, PR: March 28, 2000.

TA-W-39,169; Red Cap-VF Workwear, VF Imagewear, Mathiston, MS: April 23, 2000.

TA-W-38,898; LTV Steel Mining Co., Hoyt Lakes, MN: March 5, 2000.

TA-W-38,783; O-Z/Gedney, Pitston, PA: February 21, 2000.

TA-W-38,946; Maxi Switch, Inc., Tucson, AZ: March 13, 2000.

TA-W-38,930; Harvest Time, Inc., New York, NY: March 14, 2000.

TA-W-38,802; Inman Mills, Inman, SC: February 23, 2000.

TA-W-39,066; Scimed Life Systems, Inc., A Div. of Boston Scientific Corp., Maple Grove, MN: March 30, 2000.

TA-W-39,064; Quadion Corp., Minnesota Rubber Div., Minneapolis, MN: April 5, 2000.

TA-W-39,132; Nypro Alabama, Inc., Dothan, AL: April 10, 2000.

TA-W-39,004 & A; AgriFrozen Foods, Grandview, WA and Walla Walla, WA: March 23, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm of subdivision have decreased absolutely,

(3) That imports from Mexico or Canada of articles like or directly competitive with articles produced by such firm or subdivision have increased, and that the increases imports contributed importantly to such workers' separations or threat or separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04840; Newport Steel Corp., Newport, KY

NAFTA-TAA-04588; Capitol Manufacturing Co.,Fayetteville, NC

NAFTA-TAA-04581; & A; Eagle Knitting Mills, Inc., Shawano, WI and Kenosha, WI

NAFTA-TAA-04841; Allied Textiles USA, LLC, Charlotte, NC

NAFTA-TAA-04658; Racewear Designs, Inc., El Cajon, CA

NAFTA-TAA-04723; Taylor Lumber and Treating, Sheridan, OR

NAFTA-TAA-04794 & A, B; Wright's LLC, Allentown, PA, Orwigsburg, PA and Auburn, PA

NAFTA-TAA-04517 & A; Mirro Co., Div. of Newell-Rubbermaid, Mirro/Foley Plant 20, Chilton, WI and Mirro/Foley Plant 10, Manitowoc, WI

NAFTA-TAA-04760; Oxford Automotive, Inc., Alma, MI

The investigation revealed that the criteria for eligibility have not been met for the reasons specified.

The workers firm does not produce an article as required for certification under Section 222 of the Trade Act of 1974.

NAFTA-TAA-04558; Modus Media International, Freemont Div., Freemont, CA

NAFTA-TAA-04659; Kasle Steel Dearborn Processing, Inc., Auto Press Products Div., Dearborn, MI

Affirmative Determinations NAFTA-TAA

NAFTA-TAA-04806; Nypro Alabama, Inc., Dothan, AL: April 26, 2000.

NAFTA-TAA-04831; Avery Dennison, Spartan International Div., Holt, MI: March 2, 2000.

NAFTA-TAA-04733; Scimed Life Systems, Inc., A Div. of Boston Scientific Corp., Maple Grove, MN: April 4, 2000.

NAFTA-TAA-04719; Wolverine Roof Truss, Inc., Milan, MI: March 21, 2000.

NAFTA-TAA-04807; Cooper Wiring Devices, Div. of Cooper Industries, a/k/a Eagle Electronic Manufacturing Co, Long Island City, NY: April 2, 2000.

NAFTA-TAA-04519; Mallinckrodt, Inc., Plymouth, MN: January 22, 2000.

I hereby certify that the aforementioned determinations were issued during the month of May, 2001. Copies of these determinations are available for inspection in Room C-5311, U.S. Department of Labor, 200 Constitution Avenue, NW., Washington, DC 20210 during normal business hours or will be mailed to persons who write to the above address.

Dated: May 18, 2001.
Edward A. Tomchick,
Director, Division of Trade Adjustment Assistance.

[FR Doc. 01-13227 Filed 5-24-01; 8:45 am]

BILLING CODE 4510-30-M